DEPARTMENT OF THE TREASURY

Submission for OMB Review; Comment Request

November 17, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 24, 2003 to be assured of consideration.

Internal Revenue Service (IRS)

OMB Number: 1545-0002.

Form Number: IRS Form CT-2.

Type of Review: Extension.

Title: Employee Representative's Quarterly Railroad Tax Return.

Description: Employee representatives file Form CT-2 quarterly compensation on which railroad retirement taxes are due. IRS uses this information to ensure that employee representatives have paid the correct tax. Form CT-2 also transmits the tax payment.

Respondents: Individuals or households.

Estimated Number of Respondents/Recordkeeping: 28.

Estimated Burden Hours Respondent/Recordkeeper:

Recordkeeping—13 minutes

Learning about the law or the form—13 minutes

Preparing the form—24 minutes

Copying, assembling, and sending the form to the IRS—16 minutes

Frequency of Response: Quarterly.

Estimated Total Responding/Recordkeeping Burden: 127 hours.

OMB Number: 1545-0135.

Form Number: IRS Form 1138.

Type of Review: Extension.

Title: Extension of Time for Payment of Taxes by a Corporation Expecting a Net Operating Loss Carryback.

Description: Form 1138 is filed by corporations to request an extension of time to pay their income taxes, including estimated taxes. Corporations may only file for an extension when they expect a net operating loss carryback in the tax year and want to delay the payment of taxes from a prior tax year.

Respondents: Business or other for-profit.

Estimated Number of Respondents/Recordkeepers: 2,033.

Estimated Burden Hours Respondent/Recordkeeper:

Recordkeeping—3 hr., 21 min.

Learning about the law or the form—42 min.

Preparing and sending the form to the IRS—46 min.

Frequency of Response: On occasion.

Estimated Total Reporting/Recordkeeping Burden: 9,800 hours.

OMB Number: 1545-0794.

Regulation Project Number: LR-311-81 Final (TD 7925).

Type of Review: Extension.

Title: Penalties for Underpayment of Deposits and Overstated Deposit Claims, and Time of Filing Information Returns of Owners, Officers and Directors of Foreign Corporation.

Description: Section 6406 requires information returns with respect to certain foreign corporations and the regulations provide the date by which these returns must be filed.

Respondents: Business or other for-profit, Individuals or households, Not-for-profit institutions.

Estimated Number of Respondents: 1.

Estimated Burden Hours Respondent: 1 hour.

Frequency of Response: On occasion.

Estimated Total Reporting Burden: 1 hour.

OMB Number: 1545-0946.

Form Number: IRS Form 8554.

Type of Review: Extension.

Title: Application for Renewal of Enrollment to Practice before the Internal Revenue Service.

Description: This information relates to the approval of continuing professional education programs and the renewal of the enrollment status for those individuals admitted (enrolled) by the Internal Revenue Service.

Respondents: Individuals or households.

Estimated Number of Respondents/Recordkeepers: 39,500.

Estimated Burden Hours Respondent/Recordkeeper: 1 hour, 12 minutes.

Frequency of Response: Other (on-time filing).

Estimated Total Reporting/Recordkeeping Burden: 47,400 hours.

OMB Number: 1545-0949.

Form Number: IRS Form 2587.

Type of Review: Extension.

Title: Application for Special Enrollment Examination.

Description: This information relates to the determination of the eligibility of individuals seeking enrollment status to practice before the Internal Revenue Service.

Respondents: Individuals or households.

Estimated Number of Respondents: 8,000.

Estimated Burden Hours Respondent: 6 minutes.

Frequency of Response: Other (one-time filing).

Estimated Total Reporting Burden: 800 hours.

OMB Number: 1545-1098.

Regulation Project Number: TD 8418 Final (FI-91-86; FI-90-86; FI-90-91; and FI-1-90).

Type of Review: Extension.

Title: Arbitrage Restrictions on Tax-Exempt Bonds.

Description: This regulation requires state and local governmental issuers of tax-exempt bonds to rebate arbitrage profits earned on nonpurpose investments acquired with the bond proceeds. Issuers are required to submit a form with the rebate. The regulations provide for several elections, all of which must be in writing.

Respondents: Not-for-profit institutions, State, Local or Tribal Government.

Estimated Number of Respondents/Recordkeepers: 3,100.

Estimated Burden Hours Respondent/Recordkeeper: 2 hours, 45 minutes.

Frequency of Response: On occasion, Other (at most every 5 years).

Estimated Total Reporting/Recordkeeping Burden: 8,550 hours.

OMB Number: 1545-1145.

Form Number: IRS Form 706-GS(T).

Type of Review: Extension.

Title: Generation-Skipping Transfer Tax Return for Termination.

Description: Form 706-GS(T) is used by trustees to compute and report the Federal GST tax imposed by Internal Revenue Code (IRC) section 2601. IRS uses the information to enforce this tax and to verify that the tax has been properly computed.

Respondents: Individuals or households.

Estimated Number of Respondents/Recordkeepers: 100.

Estimated Burden Hours Respondent/Recordkeeper:

Form | Recordkeeping | Learning about the law or the form | Preparing the form | Copying, assembling, and sending the form to the IRS (minutes)
Form 706-GS(T) | 39 | 32 | 32 | 20
Schedule A | 13 | 13 | 37 | 20
Schedule B | 13 | 9 | 19 | 20

Frequency of Response: Annually.

Estimated Total Reporting/Recordkeeping Burden: 702 hours.

OMB Number: 1545-1288.

Form Number: IRS Form 8828.

Type of Review: Revision.

Title: Recapture of Federal Mortgage Subsidy.

Description: Form 8828 is needed to compute the section 143(m) tax on recapture of the Federal subsidy from use of qualified mortgage bonds and mortgage credit certificates in cases where the financing is provided after 1990 and the home subject to the financing is sold during the first 9 years after financing was provided. IRS uses the information to determine that the proper amount of Federal subsidy is recaptured.

Respondents: Individuals or households.

Estimated Number of Respondents/Recordkeepers: 10,000.

Estimated Burden Hours Respondent/Recordkeeper:

Recordkeeping—1 hr., 18 min.

Learning about the law or the form—22 min.

Preparing the form—46 min.

Copying, assembling, and sending the form to the IRS—20 min.

Frequency of Response: Other (for year of sale of home).

Estimated Total Reporting/Recordkeeping Burden: 26,340 hours.

OMB Number: 1545-1567.

Form Number: IRS Form 8854.

Type of Review: Extension.

Title: Expatriation Initial Information Statement.

Description: Internal Revenue Code section 6039G requires persons who lose U.S. citizenship to provide information concerning citizenship, income tax liability, net worth, and net assets. Form 8854 is used to report this information.

Respondents: Individuals or households.

Estimated Number of Respondents/Recordkeepers: 11,000.

Estimated Burden Hours Respondent/Recordkeeper:

| Part I (minutes) | Part I and II
Recordkeeping | 33 | 2 hr., 57 min.
Learning about the law or the form | 13 | .25 min.
Preparing the form | 39 | 1 hr., 24 min.
Copying, assembling, and sending the form to the IRS | 20 | 34 min.

Frequency of Response: Other (once).

Estimated Total Reporting/Recordkeeping Burden: 23,060 hours.

OMB Number: 1545-1711.

Regulation Project Number: REG-116050-99 NPRM.

Type of Review: Extension.

Title: Stock Transfer Rules: Carryover of Earnings and Taxes.

Description: This document contains proposed regulations governing the manner in which certain tax attributes (i.e., earnings and profits and foreign income tax accounts) carry over under section 381 and are allocated under section 312 in transactions described in section 367(b) of the Internal Revenue Code.

Respondents: Business or other for-profit.

Estimated Number of Respondents: 600.

Estimated Burden Hours Respondent: 3 hours.

Frequency of Response: On occasion.

Estimated Total Reporting Burden: 1,800 hours.

Clearance Officer: R. Joseph Durbala, Internal Revenue Service, Room 6411, 1111 Constitution Avenue, NW., Washington, DC 20224, (202) 622-3634.

OMB Reviewer: Joseph F. Lackey, Jr., Office of Management and Budget, Room 10235, New Executive Office Building, Washington, DC 20503, (202) 395-7316.

Lois K. Holland,
Treasury PRA Clearance Officer.

[FR Doc. 03-29241 Filed 11-21-03; 8:45 am]

BILLING CODE 4830-01-P